DEPARTMENT OF STATE

[Public Notice 9040]

Meeting of Advisory Committee on International Communications and Information Policy

The Department of State's Advisory Committee on International Communications and Information Policy (ACICIP) will hold a public meeting on March 13, 2015 from 2:00 p.m. to 5:00 p.m. in the Loy Henderson Auditorium of the Harry S Truman (HST) Building of the U.S. Department of State. The Truman Building is located at 2201 C Street NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by Ambassador Daniel A. Sepulveda, U.S. Coordinator for International Communications and Information Policy. The meeting's agenda will include discussions pertaining to various upcoming international telecommunications meetings and conferences as well as efforts focused on technology and international development.

Members of the public may submit suggestions and comments to the ACICIP. Comments concerning topics to be addressed in the agenda should be received by the ACICIP Executive Secretary (contact information below) at least ten working days prior to the date of the meeting. All comments must be submitted in written form and should not exceed one page. Resource limitations preclude acknowledging or replying to submissions.

While the meeting is open to the public, admittance to the building is only by means of a pre-clearance. For placement on the pre-clearance list, please submit the following information no later than 5:00 p.m. on Tuesday, March 10, 2015. (Please note that this information is required by Diplomatic Security for each entrance into HST and must therefore be re-submitted for each ACICIP meeting):

I. State That You Are Requesting Pre-Clearance to a Meeting

II. Provide the Following Information

1. Name of meeting and its date and time

2. Visitor's full name

3. Visitor's organization/company affiliation

4. Date of Birth

5. Citizenship

6. Acceptable forms of identification for entry into the building include:

• U.S. driver's license with photo

• Passport

• U.S. government agency ID

7. ID number on the form of ID that the visitor will show upon entry

8. Whether the visitor has a need for reasonable accommodation. Such requests received after March 6, 2015, might not be possible to fulfill.

Send the above information to Joseph Burton by fax (202) 647-5957 or email BurtonKJ@state.gov.

Please note that registrations will be accepted to the capacity of the meeting room. All visitors for this meeting must use the 23rd Street entrance. The valid ID bearing the number provided with your pre-clearance request will be required for admittance. Non-U.S. government attendees must be escorted by Department of State personnel at all times when in the building.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

For further information, please contact Joseph Burton, Executive Secretary of the Committee, at (202) 647-5231 or BurtonKJ@state.gov.

General information about ACICIP and the mission of International Communications and Information Policy is available at: http://www.state.gov/e/eb/adcom/acicip/index.htm

Dated: February 11, 2015.
Joseph Burton,
ACICIP Executive Secretary, Department of State.

[FR Doc. 2015-03308 Filed 2-17-15; 8:45 am]

BILLING CODE 4710-07-P